DEPARTMENT OF THE INTERIOR

National Park Service

30 Day Notice of Submission to the Office of Management and Budget; Opportunity for Public Comment

AGENCY: National Park Service, Department of the Interior.

ACTION: Notice and request for comments.

SUMMARY: Under the provisions of the Paperwork Reduction Act of 1995 (Pub. L. 104-13, 44 U.S.C. 3507) and 5 CFR part 1320, Reporting and Record Keeping Requirements, the National Park Service (NPS) invites public comments on an extension of a currently approved collection of information (OMB number 1024-0022).

DATES: Public comments on this Information Collection Request (ICR) will be accepted on or before July 25, 2007.

ADDRESSES: You may submit comments directly to the Desk Officer for the Department of the Interior (OMB number 1024-0022), Office of Information and Regulatory Affairs, OMB, by fax at 202/395-6566, or by electronic mail at oira_docket@omb.eop.gov. Please also send a copy of your comments to Lee Dickinson, Special Park Uses Program Manager, NPS, 1849 C St., NW., (2460), Washington, DC 20240, or electronically at Lee_Dickinson@nps.gov.

FOR FURTHER INFORMATION CONTACT: Lee Dickinson, Special Park Uses Program Manager, NPS, 1849 C St., NW. (2460), Washington, DC 20240, or via phone at 202/513-7092, or via e-mail at Lee_Dickinson@nps.gov. Copies of this form may be obtained from the Internet at http://www.nps.gov/policy/DOrders/BUP.pdf or by contacting Lee at the address above. You are entitled to a copy of the entire ICR package free of charge.

Comments received on the 60-day Federal Register Notice: The NPS published a 60-Day Notice to solicit public comments on this ICR in the Federal Register on March 8, 2007 (Vol. 72, page 10555). The comment period closed on May 7, 2007. No comments were received.

SUPPLEMENTARY INFORMATION:

Title: Backcountry Use Permit (36 CFR 1.5, 1.6, and 2.10).

Form Number: 10-404A.

OMB Number: 1024-0022.

Expiration Date: 6/30/07.

Type of Request: Extension of a currently approved collection.

Description of Need: In 1976, the NPS initiated a backcountry registration system in accordance with the regulations found at 36 CFR 1.5, 1.6 and 2.10. The objective of the backcountry use permit system is to provide users access to backcountry areas of national parks with continuing opportunities for solitude, while enhancing resource protection and providing a means of disseminating public safety messages regarding backcountry travel.

NPS backcountry program managers, by designating access routes and overnight camping locations, can redistribute campers in response to user impact, high fire danger, flood or wind hazard, bear activity, or other situations that may temporarily close a portion of the backcountry. The NPS may also use the permit system as a means of ensuring that each backcountry user receives up-to-date information on backcountry sanitation procedures, food storage, wildlife activity, trail conditions, and weather projections so that concerns for visitor safety are met.

The Backcountry Use Permit is an extension of the NPS statutory authority responsibility to protect the park areas it administers and to manage the public use thereof (16 U.S.C. Sections 1 and 3). NPS regulations codified in 36 CFR Parts 1 through 7, 12 and 13, are designed to implement statutory mandates that provide for resource protection and public enjoyment. The Backcountry Use Permit is the primary form used to provide access into NPS backcountry areas including those areas that require a reservation to enter where use limits are imposed in accordance with other NPS regulations. Such permitting enhances the ability of the NPS to education users on potential hazards, search and rescue efforts, and resource protection.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Frequency of collection: On occasion.

Description of Respondents: Individuals wishing to use backcountry areas within national parks.

Estimated average number of respondents: 285,000 per year.

Estimated average number of responses: 285,000 per year.

Estimated average time burden per respondent: 5 minutes per respondent.

Frequency of response: 1 time per respondent.

Estimated total annual reporting burden: 23,750 hours per year.

Dated: June 18, 2007.
Leonard E. Stowe,
NPS, Information Collection Clearance Officer.

[FR Doc. 07-3094 Filed 6-22-07; 8:45 am]

BILLING CODE 4312-53-M